DEPARTMENT OF ENERGY

Federal Energy Regulatory Commission

[Project No. 2179-043]

Merced Irrigation District; Notice of Waiver Period for Water Quality Certification Application

On April 15, 2024, Merced Irrigation District submitted to the Federal Energy Regulatory Commission (Commission) a copy of its application for a Clean Water Act section 401(a)(1) water quality certification filed with the California State Water Resources Control Board (California Water Board), in conjunction with the above captioned project. Pursuant to 40 CFR 121.6 and section 4.34(b)(5) of the Commission's regulations,¹ we hereby notify the California Water Board of the following:

¹ 18 CFR 4.34(b)(5).

Date of Receipt of the Certification Request: April 15, 2024.

Reasonable Period of Time to Act on the Certification Request: One year (April 15, 2025).

If the California Water Board fails or refuses to act on the water quality certification request on or before the above date, then the agency certifying authority is deemed waived pursuant to section 401(a)(1) of the Clean Water Act, 33 U.S.C. 1341(a)(1).

Dated: May 17, 2024.
Debbie-Anne A. Reese,
Acting Secretary.

[FR Doc. 2024-11374 Filed 5-22-24; 8:45 am]

BILLING CODE 6717-01-P